DEPARTMENT OF THE INTERIOR

Fish and Wildlife Service

50 CFR Part 17

[Docket No. FWS-R2-ES-2018-0029; FXES11130900000 189 FF09E42000]

RIN 1018-BD46

Endangered and Threatened Wildlife and Plants; Reclassifying the American Burying Beetle From Endangered to Threatened on the Federal List of Endangered and Threatened Wildlife With a 4(d) Rule

AGENCY: Fish and Wildlife Service, Interior.

ACTION: Proposed rule; reopening of public comment period, and announcement of a public hearing.

SUMMARY: We, the U.S. Fish and Wildlife Service, recently published a proposed rule to reclassify the American burying beetle (Nicrophorus americanus) from endangered to threatened and to adopt a rule under section 4(d) of the Endangered Species Act of 1973 (Act), as amended, to provide for the conservation of the species. We announced a 60-day public comment period on the proposed rule, ending July 2, 2019. We now reopen the public comment period on the proposed rule for 30 days, to allow all interested parties additional time to comment on the proposed rule. Comments previously submitted need not be resubmitted and will be fully considered in preparation of the final rule. We also announce a public informational meeting and public hearing on the proposed rule.

DATES:

Written comments: The comment period on the proposed rule that published May 3, 2019 (84 FR 19013), is reopened. We will accept comments received or postmarked on or before October 9, 2019. Please note that comments submitted electronically using the Federal eRulemaking Portal (see ADDRESSES, below) must be received by 11:59 p.m. Eastern Time on the closing date, and comments submitted by U.S. mail must be postmarked by that date to ensure consideration.

Public informational meeting and public hearing: We will hold a public informational meeting on September 24, 2019, from 5 p.m. to 6 p.m., followed by a public hearing from 6:30 p.m. to 8 p.m.

ADDRESSES:

Availability of documents: You may obtain copies of the May 3, 2019, proposed rule and associated documents on the internet at http://www.regulations.gov under Docket No. FWS-R2-ES-2018-0029.

Written comments: You may submit written comments by one of the following methods:

(1) Electronically: Go to the Federal eRulemaking Portal: http://www.regulations.gov. Search for FWS-R2-ES-2018-0029, which is the docket number for the proposed rule. You may submit a comment by clicking on “Comment Now!” Please ensure you have found the correct document before submitting your comments. If your comments will fit in the provided comment box, please use this feature of http://www.regulations.gov, as it is most compatible with our comment review procedures. If you attach your comments as a separate document, our preferred file format is Microsoft Word. If you attach multiple comments (such as form letters), our preferred format is a spreadsheet in Microsoft Excel.

(2) By hard copy: Submit by U.S. mail or hand-delivery to: Public Comments Processing, Attn: Docket No. FWS-R2-ES-2018-0029, U.S. Fish and Wildlife Service, MS: JAO/1N, 5275 Leesburg Pike, Falls Church, VA 22041-3803.

(3) At the public hearing: Hand-deliver your prepared written comments to Service personnel at the scheduled public hearing.

We request that you send comments only by the methods described above. We will post all substantive comments we receive on http://www.regulations.gov. This generally means that we will post any personal information you provide us (see Public Comments, below, for more information).

Public informational meeting and public hearing: The public informational meeting and the public hearing will be held at the Oklahoma University, Schusterman Center, Perkins Auditorium LC1, 4502 East 41st Street, Tulsa, OK 74135. See Public Hearing, below, for more information.

FOR FURTHER INFORMATION CONTACT: Jonna Polk, Field Supervisor, U.S. Fish and Wildlife Service, Oklahoma Ecological Services Field Office, 9014 East 21st St., Tulsa, OK 74129; telephone 918-382-4500. Persons who use a telecommunications device for the deaf (TDD) may call the Federal Relay Service at 800-877-8339.

SUPPLEMENTARY INFORMATION:

Background

On May 3, 2019, we published a proposed rule (84 FR 19013) to reclassify the American burying beetle as a threatened species under the Act (16 U.S.C. 1531 et seq.) and to adopt a rule under section 4(d) of the Act (a “4(d) rule”) to provide for the conservation of the species. The proposed rule had a 60-day public comment period, ending July 2, 2019. During the comment period for the proposed rule, we received a request for a public hearing. We are, therefore, reopening the comment period on our proposed rule to reclassify the American burying beetle as a threatened species and to adopt a 4(d) rule for the species for 30 days (see DATES, above), to hold a public informational meeting and a public hearing and to allow the public an additional opportunity to provide comments on our proposal.

For a description of previous Federal actions concerning the American burying beetle, please refer to the May 3, 2019, proposed rule (84 FR 19013).

Public Comments

We will accept comments and information during this reopened comment period on our proposed rule to reclassify the American burying beetle as a threatened species and to adopt a 4(d) rule to provide for the conservation of the species. We will consider information and recommendations from all interested parties. We intend that any final action resulting from the proposal will be based on the best scientific and commercial data available and will be as accurate and as effective as possible. Our final determination will take into consideration all comments and any additional information we receive during all comment periods on the proposed rule. Therefore, the final decision may differ from the May 3, 2019, proposed rule, based on our review of all information we receive during the comment periods.

If you already submitted comments or information on the May 3, 2019, proposed rule, please do not resubmit them. Any such comments are incorporated as part of the public record of the rulemaking proceeding, and we will fully consider them in the preparation of our final determination.

Comments should be as specific as possible. Please include sufficient information with your submission (such as scientific journal articles or other publications) to allow us to verify any scientific or commercial information you assert. Please note that submissions merely stating support for, or opposition to, the action under consideration without providing supporting information, although noted, will not meet the standard of best available scientific and commercial data. Section 4(b)(1)(A) of the Act directs that determinations as to whether any species is endangered or threatened must be made “solely on the basis of the best scientific and commercial data available.”

You may submit your comments and materials by one of the methods listed in ADDRESSES. We request that you send comments only by the methods described in ADDRESSES. You may also provide your comments through verbal testimony during the public hearing (see DATES, ADDRESSES, and Public Hearing in this document).

If you submit information via http://www.regulations.gov, your entire submission—including your personal identifying information—will be posted on the website. If your submission is made via a hardcopy that includes personal identifying information, you may request at the top of your document that we withhold this information from public review. However, we cannot guarantee that we will be able to do so. We will post all hardcopy submissions on http://www.regulations.gov.

Comments and materials we receive, as well as supporting documentation we used in preparing this proposed rule, will be available for public inspection on http://www.regulations.gov at Docket No. FWS-R2-ES-2018-0029, or by appointment, during normal business hours at U.S. Fish and Wildlife Service, Oklahoma Ecological Services Field Office (see FOR FURTHER INFORMATION CONTACT).

Our final determination concerning the proposed action will take into consideration all written comments we receive during the open comment periods, and comments received during the public hearing. These comments will be included in the public record for this rulemaking, and we will fully consider them in the preparation of our final determination.

Public Hearing

We are holding a public informational meeting followed by a public hearing on the date listed in DATES at the location listed in ADDRESSES. We are holding the public hearing to provide interested parties an opportunity to present verbal testimony (formal, oral comments) or hand-deliver their prepared written comments regarding the May 3, 2019 (84 FR 19013), proposed rule to reclassify the American burying beetle as a threatened species and to adopt a 4(d) rule to provide for the conservation of the species. A public hearing is not, however, an opportunity for dialogue with the Service or its contractors; it is a forum for accepting formal verbal testimony. In the event there is a large attendance, the time allotted for oral statements may be limited. Therefore, anyone wishing to make an oral statement at the public hearing for the record is encouraged to provide a prepared written copy of their statement to us at the hearing. Speakers can sign up at the hearing if they desire to make an oral statement. Oral and written statements receive equal consideration. There are no limits on the length of written comments submitted to us.

Persons with disabilities requiring reasonable accommodations to participate in the public hearing should contact the Oklahoma Ecological Services Field Office (see FOR FURTHER INFORMATION CONTACT). Reasonable accommodation requests should be received at least 3 business days prior to the hearing to help ensure availability. Please direct all requests for sign language interpreting services to the Oklahoma Ecological Services Field Office (see FOR FURTHER INFORMATION CONTACT) by close of business September 18, 2019.

Authors

The primary authors of this document are the Ecological Services staff of the Southwest Regional Office, U.S. Fish and Wildlife Service.

Authority

The authority for this action is the Endangered Species Act of 1973, as amended (16 U.S.C. 1531 et seq.).

Dated: August 29, 2019.
Stephen Guertin,
Deputy Director, Exercising the Authority of the Director for the U.S. Fish and Wildlife Service.

[FR Doc. 2019-19245 Filed 9-6-19; 8:45 am]

BILLING CODE 4333-15-P